DEPARTMENT OF THE INTERIOR

Bureau of Land Management

[CO-200-1610-DU]

Notice of Intent To Prepare the South Park Land Tenure Adjustment Plan and Amend the Royal Gorge Resource Management Plan

AGENCY: Bureau of Land Management, Interior.

ACTION: Notice of intent.

SUMMARY: This document provides notice that the Bureau of Land Management (BLM) will initiate a comprehensive planning effort to address land tenure adjustments for a portion of the Royal Gorge Field Office. The plan, entitled the South Park Land Tenure Adjustment Plan, will focus on 72,000 acres of BLM administered lands that lie in the South Park planning unit and the northern end of the Badger Creek planning unit in Park County, Colorado. The land tenure plan would potentially amend the Royal Gorge RMP, that currently states that BLM would dispose of all BLM-administered lands in Park County. The land tenure plan and plan amendment would reevaluate these decisions by examining other possible land tenure scenarios. The amendment process will be used to identify those lands to be retained in public ownership and those that can still be disposed of. The amendment process will attempt to reconcile the needs of the public while protecting the cultural and natural resources of the BLM-managed lands. The EA will analyze and compare the impacts of any changes in land tenure adjustment status with the continuation of current management, and other alternatives that may be identified.

The BLM will prepare the amendment and associated EA pursuant to the BLM planning regulations in 43 CFR 1600. The plan will fulfill the needs and obligations set forth by the National Environmental Policy Act (NEPA), the Federal Land Policy and Management Act (FLPMA), and BLM management policies. The BLM will ask the Park County Commissioners and the Colorado Division of Wildlife to be cooperators on the plan amendment. BLM will work with interested parties to identify the management decisions that are best suited to local, regional, and national needs. The public scoping process will identify planning issues and develop planning criteria. The BLM will prepare the land tenure plan through coordination with other federal, state and local agencies, and affected users of BLM-administered lands.

ADDRESSES: Please send written comments to Bureau of Land Management, Royal Gorge Field Office, ATTN: South Park Land Tenure Plan, 3170 East Main Street, Canon City, CO 81212; FAX 719-269-8599.

DATES: This notice initiates the public scoping process. Comments on issues and concerns can be submitted in writing to the address listed above and will be accepted throughout the creation of the Draft RMP amendment/EA. All public meetings will be announced through the local news media, newsletters, and the BLM Web site at: http://www.co.blm.gov/ccdo/canon.htm, at least 15 days prior to the event. The minutes and list of attendees for each meeting will be available in the Field Office and at the Web site, and they will be open for 30 days to any participant who wishes to clarify the views they expressed.

FOR FURTHER INFORMATION CONTACT: For further information and/or to have your name added to the mailing list, contact Pete Zwaneveld, Co-Team Leader, at the Royal Gorge Field Office address listed above or by calling (719) 269-8559, or e-mail at rgfo_comments@blm.gov.

SUPPLEMENTARY INFORMATION: The BLM will hold public meetings during the plan scoping period. Early participation is encouraged and will help determine the future land tenure status of the BLM-administered lands involved in this amendment. In addition to the ongoing public participation process, the BLM will provide formal opportunities for public participation by requesting comments upon BLM's publication of the draft RMP amendment, the EA, and the (unsigned) Finding of No Significant Impact (FONSI). The BLM will notify the Governor of Colorado, the Park County Commissioners, adjacent landowners, and potentially affected members of the public on the proposed changes in land tenure. Documents pertinent to this proposal may be examined at the Royal Gorge Field Office. Comments, including names and street addresses of respondents, will be available for public review at the Royal Gorge Field Office during regular business hours (8 a.m. to 4:30 p.m.), Monday through Friday, except holidays, and may be published as part of the EA. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be available for public inspection in their entirety.

The BLM-managed lands in Park County are scattered and, in many cases, difficult to manage and hard for the public to access or use. The current RMP decisions call for disposal of most of these lands. Since approval of the RMP in 1996, several new issues have arisen that bring into question the disposal of some of these lands. These issues include an expression by local citizens and the Park County Commissioners of the value of the BLM-administered lands to the public as a whole; the status of the mountain plover as a BLM sensitive species; the recognition by the U.S. Fish & Wildlife Service of the importance of fens (wetlands of concern); and the completion of a Strategic Master Plan for Park County. The plover and fen issues restrict BLM in the disposal of BLM-administered lands. Consolidation of BLM-administered lands to accommodate these issues has become a more desirable option. To do this, BLM would have to amend the Royal Gorge RMP with new decisions on land tenure.

Preliminary issues and management concerns have been identified by BLM personnel, other agencies, and in meetings with individuals, the Park County Commissioners, and user groups. They represent the BLM's knowledge to date on the existing issues and concerns with current management. The preliminary issues include: impacts to users of BLM-administered lands and adjacent private landowners; impacts to wildlife habitat; and impacts to water quality, vegetation, including riparian and wetland areas, and soils. These issues, along with others that may be identified through public participation, will be considered in the planning process. After gathering public comments on what issues the plan amendment should address, the suggested issues will be placed in one of three categories:

1. Issues to be resolved in the plan amendment;

2. Issues resolved through policy or administrative action; or

3. Issues beyond the scope of this plan amendment.

Rationale will be provided in the plan for each issue placed in category two or three. In addition to these major issues, a number of management questions and concerns will be addressed in the plan amendment. The public is encouraged to help identify these questions and concerns during the scoping phase.

An interdisciplinary approach will be used to develop the plan amendment in order to consider the variety of resource issues and concerns identified. Disciplines involved in the planning process will include specialists with expertise in rangeland management, minerals and geology, forestry, outdoor recreation, law enforcement, archaeology, wildlife and fisheries, lands and realty, hydrology, soils, vegetation, and fire.

Roy L. Masinton,
Field Manager.

[FR Doc. 04-2652 Filed 2-6-04; 8:45 am]

BILLING CODE 4310-JB-P